FEDERAL COMMUNICATIONS COMMISSION

47 CFR Parts 15 and 74

[GN Docket No. 14-166, ET Docket No. 14-165, GN Docket No. 12-268: DA 17-709]

Promoting Spectrum Access for Wireless Microphone Operations

AGENCY: Federal Communications Commission.

ACTION: Final rule; announcement of effective date.

SUMMARY: In this document, the Commission announces that the Office of Management and Budget (OMB) has approved, for a period of three years, the information collection associated with the Commission's Promoting Spectrum Access for Wireless Microphone Operations, Order (Order)'s Consumer Disclosure and Labeling rules, adopted in 2017. This document is consistent with the Order, which stated that the Commission would publish a document in the Federal Register announcing the effective date of those rules.

DATES: The amendments to 47 CFR 15.37(k) and 74.851(l) published at 80 FR 71702, November 17, 2015, are effective April 11, 2018. OMB approved the information collection requirements for §§ 15.37(k), 74.851(k), and 74.851(l) on January 18, 2018.

FOR FURTHER INFORMATION CONTACT: Paul Murray, Office of Engineering and Technology Bureau, at (202) 418-0688, or email: Paul.Murray@fcc.gov.

SUPPLEMENTARY INFORMATION: This document announces that, on January 18, 2018, OMB approved, for a period of three years, the information collection requirements relating to the consumer disclosure and labeling rules contained in the Commission's Wireless Microphones Report and Order (R&O), FCC 15-100 (80 FR 71702, November 17, 2015) (as revised in the Wireless Microphones Order on Reconsideration, FCC 17-95 (82 FR 41549, September 1, 2017)) and the Commission's Order, DA 17-709, adopted on July 24, 2017, and published elsewhere is this issue of the Federal Register. The OMB Control Number is 3060-1250. The Commission publishes this document as an announcement of the effective date of the specific Consumer Alert language in the consumer disclosure rules. If you have any comments on the burden estimates listed below, or how the Commission can improve the collections and reduce any burdens caused thereby, please contact Nicole Ongele, Federal Communications Commission, Room 1-A620, 445 12th Street SW, Washington, DC 20554. Please include the OMB Control Number, 3060-1250, in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received final OMB approval on January 18, 2018, for the information collection requirements contained in the modifications to the Commission's rules in 47 CFR parts 15 and 74.

Under 5 CFR part 1320, an agency may not conduct or sponsor a collection of information unless it displays a current, valid OMB Control Number.

No person shall be subject to any penalty for failing to comply with a collection of information subject to the Paperwork Reduction Act that does not display a current, valid OMB Control Number. The OMB Control Number is 3060-1250.

The foregoing notice is required by the Paperwork Reduction Act of 1995, Public Law 104-13, October 1, 1995, and 44 U.S.C. 3507.

The total annual reporting burdens and costs for the respondents are as follows:

OMB Control Number: 3060-1250.

OMB Approval Date: January 18, 2018.

OMB Expiration Date: January 31, 2021.

Title: Sections 15.37(k), 74.851(k), and 74.851(l), Consumer Disclosure and Labeling.

Form Number: N/A.

Respondents: Business or other for-profit, and Not-for-profit institutions.

Number of Respondents and Responses: 5,100 respondents; 127,500 responses.

Estimated Time per Response: .25 hours.

Frequency of Response: Third party disclosure requirement (disclosure and labeling requirement).

Obligation to Respond: Required to provide at time of sale, lease, or distribution. Statutory authority for this collection of information is contained in 47 U.S.C. 151, 154(i), 154(j), 301, 302a, 303(f), 303(g), and 303(r).

Total Annual Burden: 31,875 hours.

Total Annual Cost: $1,625,000.

Nature and Extent of Confidentiality: No information is requested that would require assurance of confidentiality.

Privacy Act: No impact(s).

Needs and Uses: On July 24, 2017, the Consumer and Governmental Affairs Bureau, Wireless Telecommunications Bureau, and the Office of Engineering and Technology of the Federal Communications Commission released an Order, Promoting Spectrum Access for Wireless Microphone Operations, Amendment of part 15 of the Commission's Rules for Unlicensed Operations in the Television Bands, Repurposed 600 MHz Band, 600 MHz Guard Bands and Duplex Gap, and Channel 37, and, Amendment of part 74 of the Commission's Rules for Low Power Auxiliary Stations in the Repurposed 600 MHz Band and 600 MHz Duplex Gap, Expanding the Economic and Innovation Opportunities of Spectrum Through Incentive Auctions, Order, GN Docket No. 14-166, ET Docket No. 14-165, and GN Docket No. 12-268. In this Order, the Consumer and Governmental Affairs Bureau, Wireless Telecommunications Bureau, and the Office of Engineering and Technology provided the specific Consumer Alert language that must be used in the consumer disclosure required by the Commission in its 2015 Wireless Microphones Report and Order, as set forth in Sections 15.37(k) and 74.851(l) of the Commission's rules. As the Order explains, the consumer disclosure requirement is applicable to persons who manufacture, sell, lease, or offer for sale or lease, wireless microphone or video assist devices to the extent that these devices are capable of operating on the specific frequencies associated with the 600 MHz service band (617-652 MHz/663-698 MHz). This disclosure also informs consumers that, consistent with the Commission's decision in the 2015 Wireless Microphones Report and Order, wireless microphone users must cease any wireless microphone operations in the 600 MHz service band no later than July 13, 2020, and that in many instances they may be required to cease use of these devices earlier if their use has the potential to cause harmful interference to 600 MHz service licensees' wireless operations in the band.

Federal Communications Commission.
Julius P. Knapp,
Chief, Office of Engineering and Technology.

[FR Doc. 2018-04875 Filed 3-9-18; 8:45 am]

BILLING CODE 6712-01-P